Proclamation 9680 of November 30, 2017

World AIDS Day, 2017

By the President of the United States of America

A Proclamation

The first documented cases of the human immunodeficiency virus infection (HIV) and acquired immune deficiency syndrome (AIDS) 36 years ago became the leading edge of an epidemic that swept across the United States and around the globe, devastating millions of individuals, families, and communities. As a Nation, we felt fear and uncertainty as we struggled to understand this new disease. In the decades since—through public and private American leadership, innovation, investment, and compassion—we have ushered in a new, hopeful era of prevention and treatment. Today, on World AIDS Day, we honor those who have lost their lives to AIDS, we celebrate the remarkable progress we have made in combatting this disease, and we reaffirm our ongoing commitment to end AIDS as a public health threat.

Since the beginning of the HIV/AIDS epidemic, more than 76 million people around the world have become infected with HIV and 35 million have died from AIDS. As of 2014, 1.1 million people in the United States are living with HIV. On this day, we pray for all those living with HIV, and those who have lost loved ones to AIDS.

As we remember those who have died and those who are suffering, we commend the immense effort people have made to control and end the HIV/AIDS epidemic. In the United States, sustained public and private investments in HIV prevention and treatment have yielded major successes. The number of annual HIV infections fell 18 percent between 2008 and 2014, saving an estimated $14.9 billion in lifetime medical costs. We have also experienced successes around the globe. Through the President's Emergency Plan for AIDS Relief (PEPFAR) and its data-driven investments in partnership with more than 50 countries, we are supporting more than 13.3 million people with lifesaving antiretroviral treatment. We remain deeply committed to supporting adolescent girls and young women through this program, who are up to 14 times more likely to contract HIV than young men in some sub-Saharan African countries. Our efforts also include the DREAMS (Determined, Resilient, Empowered, AIDS-free, Mentored, and Safe) public-private partnership, which has resulted in a 25-40 percent decline in new HIV infections among young women in districts in 10 highly affected African countries during the last 2 years.

While we have made considerable progress in recent decades, tens of thousands of Americans are infected with HIV every year. My Administration will continue to invest in testing initiatives to help people who are unaware they are living with HIV learn their status. Internationally, we will rapidly implement the recent PEPFAR Strategy for Accelerating HIV/AIDS Epidemic Control (2017-2020), which uses data to guide investments and efforts in more than 50 countries to reach epidemic control.

Due to America's leadership and private sector philanthropy and innovation, we have saved and improved millions of lives and shifted the HIV/AIDS epidemic from crisis toward control. We are proud to continue our work with many partners, including governments, private-sector companies, philanthropic organizations, multilateral institutions, civil society and faith-based organizations, people living with HIV, and many others.

NOW, THEREFORE, I, DONALD J. TRUMP, President of the United States of America, by virtue of the authority vested in me by the Constitution and laws of the United States, do hereby proclaim December 1, 2017, as World AIDS Day. I urge the Governors of the States and the Commonwealth of Puerto Rico, officials of the other territories subject to the jurisdiction of the United States, and the American people to join me in appropriate activities to remember those who have lost their lives to AIDS and to provide support and compassion to those living with HIV.

IN WITNESS WHEREOF, I have hereunto set my hand this thirtieth day of November, in the year of our Lord two thousand seventeen, and of the Independence of the United States of America the two hundred and forty-second.

[FR Doc. 2017-26358

Filed 12-4-17; 11:15 am]

Billing code 3295-F8-P